DEPARTMENT OF ENERGY

Environmental Management Site-Specific Advisory Board, Portsmouth

AGENCY: Department of Energy (DOE).

ACTION: Notice of open meeting.

SUMMARY: This notice announces a meeting of the Environmental Management Site-Specific Advisory Board (EM SSAB), Portsmouth. The Federal Advisory Committee Act (Pub. L. 92-463, 86 Stat. 770) requires that public notice of this meeting be announced in the Federal Register.

DATES: Thursday, March 3, 2011, 6 p.m.-8 p.m.

ADDRESSES: Ohio State University, Endeavor Center, 1862 Shyville Road, Piketon, Ohio 45661.

FOR FURTHER INFORMATION CONTACT: Joel Bradburne, Deputy Designated Federal Officer, Department of Energy, Portsmouth/Paducah Project Office, Post Office Box 700, Piketon, Ohio 45661, (740) 897-3822; e-mail: Joel.Bradburne@lex.doe.gov.

SUPPLEMENTARY INFORMATION: Purpose of the Board: The purpose of the Board is to make recommendations to DOE-EM and site management in the areas of environmental restoration, waste management and related activities.

Tentative Agenda

• Call to Order, Introductions, Review of Agenda.

• Approval of January Minutes.

• Deputy Designated Federal Officer's Comments.

• Federal Coordinator's Comments.

• Liaisons' Comments.

• Plant Tour Safety Procedures.

• Administrative Issues:

○ Subcommittee Updates.

○ Discussion on Top 3 Issues, Accomplishments, and Major Board Activity.

○ Discussion on Nevada Site-Specific Advisory Board Recommendation: Using Rail Transport for Moving Waste.

• Public Comments.

• Final Comments.

• Adjourn.

Public Participation: The meeting is open to the public. The EM SSAB, Portsmouth, welcomes the attendance of the public at its advisory committee meetings and will make every effort to accommodate persons with physical disabilities or special needs. If you require special accommodations due to a disability, please contact Joel Bradburne in advance of the meeting at the phone number listed above. The Deputy Designated Federal Officer is empowered to conduct the meeting in a fashion that will facilitate the orderly conduct of business.

Issued at Washington, DC on February 8, 2011.
LaTanya Butler,
Acting Deputy Committee Management Officer.

[FR Doc. 2011-3237 Filed 2-11-11; 8:45 am]

BILLING CODE 6450-01-P